DEPARTMENT OF TRANSPORTATION

National Highway Traffic Safety Administration

[Docket No. NHTSA—2012-0081]

Amendments to Highway Safety Program Guidelines

AGENCY: National Highway Traffic Safety Administration (NHTSA), Department of Transportation.

ACTION: Request for comments, highway safety program guidelines.

SUMMARY: Section 402 of title 23 of the United States Code requires the Secretary of Transportation to promulgate uniform guidelines for State highway safety programs. The National Highway Traffic Safety Administration (NHTSA) is seeking comments on proposed amendments to five (5) guidelines and one (1) new guideline that reflect program methodologies and approaches that have proven to be successful and are based on sound science and program administration. The guidelines the agency proposes to revise are: Guideline No. 1 Periodic Motor Vehicle Inspection, Guideline No. 2 Motor Vehicle Registration, Guideline No. 6 Codes and Laws, Guideline No. 16 Management of Highway Incidents (formerly Debris Hazard Control and Cleanup), and Guideline No. 18 Motor Vehicle Crash Investigation and Incident Reporting (formerly Accident Investigation and Reporting). The new guideline is No. 13 Older Driver Safety. NHTSA believes the proposed amendments and new guideline will provide more accurate, current and effective guidance to the States. The guidelines will be made publicly available on the NHTSA Web site.

DATES: Comments must be received on or before July 20, 2012.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Instructions: For detailed instructions on submitting comments and additional information on the rulemaking process, see the Public Participation heading of the SUPPLEMENTARY INFORMATION section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register at 65 FR 19477 FR 19477, April 11, 2000, or you may visit http://www.regulations.gov.

Docket: For access to the docket to read background documents or comments received, go to http://www.regulations.gov or the street address listed above. Follow the online instructions for accessing the dockets.

FOR FURTHER INFORMATION CONTACT: Ms. Susan Kirinich (202) 366-1836, Office of Governmental Affairs, Policy and Strategic Planning, NHTSA, U.S. Department of Transportation, 1200 New Jersey Avenue SE., Washington, DC 20590. Email: susan.kirinich@dot.gov.

SUPPLEMENTARY INFORMATION:

I. Background

Section 402 of title 23 of the United States Code requires the Secretary of Transportation to promulgate uniform guidelines for State highway safety programs. As the highway safety environment changes, it is necessary for NHTSA to update the guidelines to provide current information on effective program content for States to use in developing and assessing their traffic safety programs. These guidelines reflect the best available science and the real-world experience of NHTSA and the States in developing and managing traffic safety program content. NHTSA will update the guidelines periodically to address new issues and to emphasize program methodologies and approaches that have proven to be effective in these program areas.

The guidelines offer direction to States in formulating their highway safety plans for highway safety efforts that are supported with section 402 grant funds, as well as safety activities funded from other sources. The guidelines provide a framework for developing a balanced highway safety program and serve as benchmarks by which States can assess the effectiveness of their own programs. NHTSA encourages States to use these guidelines and build upon them to optimize the effectiveness of highway safety programs conducted at the State and local levels.

The guidelines emphasize areas of nationwide concern and highlight effective countermeasures. As each guideline is updated or created, it will include the date of its revision or development.

NHTSA has developed a new guideline on older drivers, No. 13, to address this growing segment of the population. This new guideline will help States develop plans to address the particular needs of older drivers and address the emerging challenges from the increasing population of older drivers in their States. Because of the unique issues related to older driver safety, this guideline also includes recommendations related to Medical Providers and Social Services Providers.

It is important that States begin to address the safety of older road users now because the population of people 65 and older will increase dramatically in the coming years. These population changes will result in a disproportionate increase in deaths and injuries among older people if no actions are taken. This guideline is also designed to help policymakers with decisions about how best to address the real and growing problem of older driver safety.

All the highway safety guidelines are on the NHTSA Web site, in the Highway Safety Grant Management Manual, and on the Traffic Safety page at http://www.nhtsa.dot.gov/nhtsa/whatsup/tea21/tea21programs/.

The five (5) guidelines NHTSA plans to revise along with one (1) new guideline represent the last in a series of three sets of revisions to the guidelines. For the first set of revisions, the agency revised six (6) guidelines on November 7, 2006 (71 FR 65172): Guideline No. 3 Motorcycle Safety, Guideline No. 8 Impaired Driving, Guideline No. 14 Pedestrian and Bicycle Safety, Guideline No. 15 Traffic Enforcement, Guideline No. 19 Speed Management, and Guideline No. 20 Occupant Protection. The following five (5) guidelines were revised on April 1, 2009: Guideline No. 4 Driver Education, Guideline No. 5 Non-Commercial Driver Licenses, Guideline No. 7, Judicial and Court Services, Guideline No. 10 Traffic Records, and Guideline No. 17 Pupil Transportation. A new guideline was also added at that time: Guideline No. 12, Prosecutor Training.

II. Public Participation

How do I prepare and submit written comments?

Your comments must be written and in English. To ensure that your comments are correctly filed in the Docket, please include the docket number of this document in your comments.

Your primary comments cannot exceed 15 pages. (49 CFR 553.21). We established this limit to encourage you to write your primary comments in a concise fashion. However, you may attach necessary additional documents to your primary comments. There is no limit on the length of the attachments. Please submit your comments to the Docket by any of the methods outlined under ADDRESSES.

How can I be sure that my comments were received?

If you submit your comments by mail and wish the Docket Management to notify you upon its receipt of your comments, enclose a self-addressed, stamped postcard in the envelope containing your comments. Upon receiving your comments, the Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512).

Will the agency consider late comments?

We will consider all comments that Docket Management receives before the close of business on the comment closing date indicated above under DATES. To the extent possible, we will also consider comments that Docket Management receives after that date. If Docket Management receives a comment too late for us to consider in developing a final guideline (assuming that one is issued), we will consider that comment as an informal suggestion for future guideline action.

How can I read the comments submitted by other people?

You may read the comments received by Docket Management at the Docket Management Facility by going to the street address given above under ADDRESSES. The Docket Management Facility is open between 9 a.m. and 5 p.m. Eastern Time, Monday through Friday, except Federal holidays. You may also read the materials placed in the docket for this document (e.g., the comments submitted in response to this document by other interested persons) at any time by going to http://www.regulations.gov. Follow the online instructions for accessing the dockets.

Please note that even after the comment closing date, we will continue to file relevant information in the Docket as it becomes available. Further, some people may submit late comments. Accordingly, we recommend that you periodically check the Docket for new material.

In consideration of the foregoing, NHTSA proposes to amend Guidelines 1, 2, 6, 16, and 18, and proposes new Guideline 13, to read as follows.

Highway Safety Program Guideline No. 1

Periodic Motor Vehicle Inspection

Each State should have a program for periodic inspection of all registered vehicles to reduce the number of vehicles with existing or potential conditions that may contribute to crashes or increase the severity of crashes that do occur, and should require the owner to correct such conditions.

I. An inspection program would provide, at a minimum, that:

A. Every vehicle registered in the State is inspected at the time of initial registration and on a periodic basis thereafter as determined by the State based on evidence of the effectiveness of inspection programs.

B. The inspection is performed by competent personnel specifically trained to perform their duties and certified by the State.

C. The inspection covers systems, subsystems, and components having substantial relation to safe vehicle performance.

D. Each inspection station maintains records in a form specified by the State, which includes at least the following information:

• Class of vehicle.

• Date of inspection.

• Make of vehicle.

• Model year.

• Vehicle identification number.

• Defects by category.

• Identification of inspector.

• Mileage or odometer reading.

E. The State publishes summaries of records of all inspection stations at least annually, including tabulations by make and model of vehicle.

II. The program should be periodically evaluated by the State and the National Highway Traffic Safety Administration should be provided with an evaluation summary.

Highway Safety Program Guideline No. 2

Motor Vehicle Registration

Each State should have a motor vehicle registration program.

I. A model registration program would require that every vehicle operated on public highways is registered and that the following information is readily available for each vehicle:

• Make.

• Model year.

• Vehicle Identification Number.

• Type of body.

• License plate number.

• Name of current owner.

• Current address of owner.

• Registered gross laden weight of every commercial vehicle.

II. Each program should have a records system that provides at least the following services:

• Rapid entry of new data into the records or data system.

• Controls to eliminate unnecessary or unreasonable delay in obtaining data.

• Rapid audio or visual response upon receipt at the records station of any priority request for status of vehicle possession authorization.

• Data available for statistical compilation as needed by authorized sources.

• Identification and ownership of vehicle sought for enforcement or other operation needs.

III. This program should be periodically evaluated by the State and the National Highway Traffic Safety Administration should be provided with an evaluation summary.

Highway Safety Program Guideline No. 6

Codes and Laws

Each State should strive to achieve uniformity of traffic codes and laws throughout the State. The State Highway Safety Office should maintain a list of all relevant traffic codes and laws, and serve as a resource to State and local jurisdictions on any proposed changes.

Each State should utilize all available sources, such as Federal or State legislative databases or Web sites, to ensure that its traffic codes and laws reflect the most current evidence-based and peer-reviewed research.

Highway Safety Program Guideline No. 13

Older Driver Safety

Each State, in cooperation with its political subdivisions, tribal governments and other stakeholders, should develop and implement a comprehensive highway safety program, reflective of State demographics, to achieve a significant reduction in traffic crashes, fatalities, and injuries on public roads. The highway safety program should include a comprehensive older driver safety program that aims to reduce older driver crashes, fatalities, and injuries. To maximize benefits, each State older driver safety program should address driver licensing and medical review of at-risk drivers, medical and law enforcement education, roadway design, and collaboration with social services and transportation services providers. This guideline recommends the key components of a State older driver safety program, and criteria that the program components should meet.

In this guideline, there are recommendations regarding specific partner groups. However, it is likely that there are other State, local, and non-government organizations that could help in achieving goals related to older driver safety because their missions are related to the safe mobility of older people. When older people can no longer drive safely, their mobility needs are often met by alternative means such as ride programs or transit services. Federal highway safety funds can be used for highway safety purposes—which might include programs to facilitate older persons' decisions about when to stop driving by increasing awareness of other transportation options. However, NHTSA funds cannot be used to provide services—such as transit services—whose primary purpose is not to improve highway safety. For details on recommended practices, please see Countermeasures that Work (6th Edition, 2011) (Countermeasures that Work.pdf).

I. Program Management

Each State should have centralized data analysis and program planning, implementation, and coordination to identify the nature and extent of its older driver safety problems, to establish goals and objectives for the State's older driver safety program and to implement projects to reach the goals and objectives. State older driver programs should:

• Designate a lead organization for older driver safety;

• Develop resources;

• Collect and analyze data on older driver crashes, injuries, and fatalities;

• Identify and prioritize the State's older driver safety problems;

• Encourage and facilitate regular collaboration among agencies and organizations responsible for or impacted by older driver safety issues (e.g., the State Unit on Aging, State Injury Prevention Director, NGO's related to aging or aging-related diseases);

• Develop programs and specific projects to address identified problems;

• Coordinate older driver safety projects with other highway safety projects;

• Increase awareness of older driver transportation options, such as ride programs or transit services;

• Integrate older driver safety into the State strategic highway safety plans and other related activities, including impaired driving, occupant protection, and especially driver licensing programs; and

• Routinely evaluate older driver safety programs and services and use the results in program planning.

II. Roadway Design for Older Driver Safety

Traffic engineering and roadway design can challenge or ease a driver's mobility in any community. It is possible and desirable to accommodate normal aging through the application of design, operational, and traffic engineering countermeasures. The needs of older road users must be considered in new construction, as well as in spot improvements, to keep older drivers safe. The Federal Highway Administration (FHWA) has developed guidelines (FHWA Highway Design Handbook for Older Drivers and Pedestrians) for accommodating older road users, and the guidelines need to be implemented on State and local roadways. Each State also has a process by which it seeks user input for its Strategic Highway Safety Plans. It is reasonable for State DOTs to collaborate and seek partnerships and funding through other sources, such as the Highway Safety Plans, which come from the Highway Safety Office, or from the State Units on Aging. State DOTs should:

• Consider Older Driver safety as an emphasis area in the Strategic Highway Safety Plan (SHSP) if data analysis identifies this as an area of concern;

• Develop and implement a plan for deploying the guidelines and recommendations to accommodate older drivers and pedestrians; and

• Develop and implement a communications and educational plan for assisting local entities in the deployment of the guidelines and recommendations to accommodate older drivers and pedestrians.

III. Driver Licensing

Driver licensing is a critical element in the oversight of public safety as it relates to older drivers. The driver licensing authority (DMV) can legally restrict or suspend an individual's license, and for that reason, it is the primary audience for these recommendations. There are three areas within driver licensing that are important to driving safety: policies; practices; and, communications.

Recommended driver licensing policies that each State should implement to address older driver safety are:

• In-person renewal should be required of individual drivers over a specified age that the State determines based on an analysis of their individual crash records;

• Medical review policies should align with the Driver Fitness Medical Guidelines (Driver Fitness Medical Guidelines) published by NHTSA and the American Association of Motor Vehicle Administrators (AAMVA); and

• Medical providers of all kinds who provide a referral regarding a driver in good faith to the driver licensing authority should be provided immunity from civil liability.

Recommended driver licensing practices that each State should implement to address older driver safety are:

• Establish a Medical Advisory Board (MAB), consisting of a range of medical professionals, to provide policy guidance to the driver licensing agency to implement;

• The medical review function of the DMV should include staff with medical expertise in the review of medically-referred drivers;

• The DMV should regularly conduct analyses and evaluation of the referrals that come through the medical review system to determine whether procedures are in place to appropriately detect and regulate at-risk drivers;

• Train DMV staff, including counter-staff, in the identification of medically at-risk drivers and the referral of those drivers for medical review; and

• Provide a simple and fast way for individuals to convert their driver licenses to identification cards.

To be effective in identification of medically at-risk drivers, the State should implement a communications program, through the DMV to:

• Make medical referral information and forms easy to find on the DMV Web site;

• Provide outreach to and training for medical providers (e.g., physicians, nurses, etc.) in making referrals of medically at-risk drivers and in finding resources on functional abilities and driving;

• Provide outreach to and training for law enforcement in successfully identifying medically at-risk drivers and in making referrals of medically at-risk drivers to the DMV; and

• Provide information on transportation options and community resources to drivers who are required to submit to medical review of their licenses.

IV. Medical Providers

State older driver safety programs rely on the identification of medically at-risk drivers by their medical providers, with the aim of limiting the impact of changes in functional abilities on the safe operation of a motor vehicle. Medical providers should know how to counsel the at-risk driver, and when confronted by a driver who refuses to heed advice to stop driving, to make a referral to the driver licensing authority. To facilitate this process, State older driver safety programs should:

• Establish and implement a communications plan for reaching medical providers;

• Disseminate educational materials for medical providers. Providers should include physicians, nurses, occupational therapists, and other medical professionals who treat or deal with older people and/or their families;

• Facilitate the provision of Continuing Medical Education (CME) credits for medical providers in learning about driving safety; and

• Facilitate referrals of medically at-risk drivers to the driver licensing authority for review.

V. Law Enforcement

Law Enforcement plays an important role in identifying at-risk drivers on the road. States should ensure that State and local older driver safety programs include a law enforcement component. Essential elements of the law enforcement component include:

• A communications plan for reaching law enforcement officers with information on medically at-risk drivers;

• Training and education for law enforcement officers that includes emphasis on “writing the citation” for older violators, identifying the medically at-risk driver, and making referrals of the medically at-risk driver to the driver licensing authority; and

• An easy way for law enforcement officers who are in the field to make referrals of medically at-risk drivers to the driver licensing authority.

VI. Social and Aging Services Providers

At the State-level, there are agencies that are responsible for coordinating aging services. These agencies should be collaborating with the State DOT-Transit offices in the planning for and provision of transportation services for older residents. State Highway Safety Offices should:

• Collaborate with State Units on Aging and other social services providers on providing support related to older drivers who are transitioning from driving;

• Collaborate with State DOT-Transit offices to provide information at the local level on how individuals can access transportation services for older people; and

• Develop joint communications strategies and messages related to driver transitioning.

VII. Communication Program

States should develop and implement communication strategies directed at specific high-risk populations as identified by crash and population-based data. Communications should highlight and support specific policies and programs underway in the States and communities. The programs and materials should be culturally-relevant, multi-lingual as necessary, and appropriate to the target audience. To achieve this, States should:

• Establish a working group of State and local agencies and organizations that have an interest in older driver safety and mobility with the goal of developing common message themes; and

• Focus the communication efforts on the support of the overall policy and program.

VIII. Program Evaluation And Data

Both problem identification and continual evaluation require effective record-keeping by State and local governments. The State should identify the frequency and types of older driver crashes. After problem identification is complete, the State can identify appropriate countermeasures. The State can promote effective evaluation by:

• Supporting detailed analyses of police accident reports involving older drivers;

• Encouraging, supporting, and training localities in process, impact, and outcome evaluation of local programs;

• Conducting and publicizing statewide surveys of public knowledge and attitudes about older driver safety;

• Evaluating the use of program resources and the effectiveness of existing countermeasures for the general public and high-risk populations;

• Ensuring that evaluation results are used to identify problems, plan new programs, and improve existing programs; and

• Maintaining awareness of trends in older driver crashes at the national level and how this might influence activities statewide.

Highway Safety Program Guideline No. 16

Management of Highway Incidents (Formerly Debris Hazard and Control and Cleanup)

Each State in cooperation with its political subdivisions should have a program which provides for rapid, orderly, and safe removal from the roadway of wreckage, spillage, and debris resulting from motor vehicle accidents, and for otherwise reducing the likelihood of secondary and chain-reaction collisions, and conditions hazardous to the public health and safety.

I. The program should provide at a minimum that:

A. Traffic Incident Management programs are effective and understood by emergency first responders.

B. Operational procedures are established and implemented to:

1. Define responsibilities of all first responders;

2. Certify and classify all rescue and salvage responders and equipment;

3. Enable rescue and salvage equipment personnel to get to the scene of accidents rapidly and to operate effectively and safely on arrival—

a. On heavily traveled freeways and other limited access roads;

b. In other types of locations where wreckage or spillage of hazardous materials on or adjacent to highways endangers the public health and safety;

4. Extricate trapped persons from wreckage with reasonable care-to avoid injury or aggravating existing injuries;

5. Warn approaching drivers and detour them with reasonable care past hazardous wreckage or spillage;

6. Ensure safe handling of spillage or potential spillage of materials that are —

a. Radioactive

b. Flammable

c. Poisonous

d. Explosive

e. Otherwise hazardous; and

7. Expeditiously remove wreckage or spillage from roadways or otherwise ensure the resumption of safe, orderly traffic flow.

C. All rescue and salvage personnel are properly trained and retrained in the latest accident cleanup techniques.

D. An interoperable communications system is provided, adequately equipped and manned, to provide coordinated efforts in incident detection and the notification, dispatch, and response of appropriate services.

II. The program should be periodically evaluated by the State to ensure adherence to the principles and concepts of the National Incident Management System using the Federal Highway Administration's Traffic Incident Management State Self-Assessment (http://ops.fhwa.dot.gov/eto_tim_pse/preparedness/tim/self.htm). The National Highway Traffic Safety Administration should be provided with an evaluation summary.

Highway Safety Program Guideline No. 18

Motor Vehicle Crash Investigation And Incident Reporting (Formerly Accident Investigation and Reporting)

Each State should have a highway safety program for the investigation and reporting of all motor vehicle crashes and incidents, and the associated deaths, injuries and reportable property damage that occur within the State.

I. A uniform, comprehensive crash investigation and incident reporting program would provide for gathering information—who, what, when, where, why, and how—on all motor vehicle crashes and incidents, and the associated deaths, injuries, and property damage within the State and entering the information into the traffic records system for use in planning, evaluating, and furthering highway safety program goals.

II. For the purpose of this guideline, the definitions adhere to D16.1-2007, the Manual on Classification of Motor Vehicle Traffic Accidents (http://downloads.nsc.org/pdf/D16.1_Classification_Manual.pdf).

III. A model crash investigation and incident reporting program would be structured as follows:

A. Administration.

1. There should be a State agency having primary responsibility for the collection, storing, processing, administration and supervision of crash investigation and incident reporting information and for providing this information upon request to other user agencies.

2. At all levels of government, there should be adequate staffing (not necessarily limited to law enforcement officers) with the knowledge, skills and ability to conduct crash investigations and incident reporting and to process the collected information.

3. Procedures should be established to assure coordination, cooperation, and exchange of information among local, State, and Federal agencies having responsibility for the investigation of motor vehicle crashes and incidents, and processing of collected data.

4. Each State should establish procedures for entering crash investigation and incident information into the statewide traffic records system (established pursuant to Highway Safety Program Guideline No. 10 Traffic Records) and for assuring uniformity and compatibility of this data with the requirements of the system, including at a minimum:

a. Use of uniform definitions and classifications as denoted in the Model Minimum Uniform Crash Criteria Guideline (MMUCC) (http://www.mmucc.us); and

b. A guideline format for input of data into a statewide traffic records system.

B. Crash investigation and incident reporting. Each State should establish procedures that require the reporting of motor vehicle crashes and incidents to the responsible State agency within a reasonable time after the occurrence.

C. Driver reports.

1. In motor vehicle crashes involving only property damage, and where the motor vehicle can be safely driven away from the scene, the drivers of the motor vehicles involved should be required to submit a written report consistent with State reporting requirements, to the responsible State agency. A motor vehicle should be considered capable of being normally and safely driven if it does not require towing and can be operated under its own power, in its customary manner, without further damage or hazard to itself, other traffic elements, or the roadway. Each driver report should include, at a minimum, the following information relating to the crash:

a. Location.

b. Date.

c. Time.

d. Identification of drivers.

e. Identification of the owner.

f. Identification of any pedestrians, passengers, and pedal-cyclists.

g. Identification of the motor vehicles.

h. Direction of travel of each motor vehicle involved.

i. Other property involved.

j. Environmental conditions existing at the time of the accident.

k. A narrative description of the events and circumstances leading up to the time of the crash and immediately after the crash.

2. In all other motor vehicle crashes or incidents, the drivers of the motor vehicles involved should be required to immediately notify and report the motor vehicle crash or incident to the nearest law enforcement agency of the jurisdiction in which the motor vehicle crash or incident occurred. This includes, but is not limited to, motor vehicle crashes or incidents involving: (1) Fatal or nonfatal personal injury or (2) damage to the extent that any motor vehicle involved cannot be driven under its own power, and therefore requires towing.

D. Motor vehicle crash investigation and incident reporting. Each State should establish a plan for motor vehicle crash investigation and incident reporting that meets the following criteria:

1. A law enforcement agency investigation should be conducted of all motor vehicle crashes and incidents identified in section III.C.2. of this guideline. Information collected should be consistent with the law enforcement mission of detecting and apprehending violators of any criminal or traffic statute, regulation or ordinance, and should include, as a minimum, the following:

a. Violation(s), if any occurred, cited by section and subsection, numbers and titles of the State code, that contributed to the motor vehicle crash or incident or for which the driver was arrested or cited.

b. Information supporting each of the elements of the offenses for which the driver was arrested or cited.

c. Information (collected in accordance with the program established under Highway Safety Program Guideline No. 15, Traffic Law Enforcement Services), relating to human, vehicular, and roadway factors causing individual motor vehicle crashes and incidents, injuries, and deaths, including failure to use seat belts.

2. Multidisciplinary motor vehicle crash investigation teams should be established, with representatives from appropriate interest areas, such as law enforcement, prosecutorial, traffic, highway and automotive engineering, medical, behavioral, and social sciences. Data gathered by each member of the investigation team should be consistent with the mission of the member's agency, and should be for the purpose of determining the causes of motor vehicle crashes, injuries, and deaths. These teams should conduct investigations of an appropriate sampling of motor vehicle crashes in which there were one or more of the following conditions:

a. Locations that have a similarity of design, traffic engineering characteristics, or environmental conditions, or that have a significantly large or disproportionate number of crashes.

b. Motor vehicles or motor vehicle parts that are involved in a significantly large or disproportionate number of motor vehicle crashes, or fatal or injury-producing crashes or incidents.

c. Drivers, pedestrians, and motor vehicle occupants of a particular age, sex, or other grouping, who are involved in a significantly large or disproportionate number of fatal or injury producing motor vehicle crashes or incidents.

d. Motor vehicle crashes in which the causation or the resulting injuries and property damage are not readily explainable in terms of conditions or circumstances that prevailed.

e. Other factors that concern State and national emphasis programs.

IV. Evaluation. The program should be evaluated at least annually by the State. The National Highway Traffic Safety Administration should be provided with a copy of the evaluation.

Authority: 23 U.S.C. Section 402.

Issued on: June 14, 2012.
Jeff Michael,
Associate Administrator for Research and Program Development.

[FR Doc. 2012-15011 Filed 6-19-12; 8:45 am]

BILLING CODE 4910-59-P